DEPARTMENT OF HOUSING AND URBAN DEVELOPMENT

[Docket No. FR-6047-D-03]

Order of Succession for Government National Mortgage Association (Ginnie Mae)

AGENCY: Office of the President of the Government National Mortgage Association, HUD.

ACTION: Notice of order of succession.

SUMMARY: In this Notice, the Secretary of Housing and Urban Development designates the Order of Succession for the Government National Mortgage Association (Ginnie Mae). This Order of Succession supersedes all prior Orders of Succession for Ginnie Mae.

DATES: Applicability Date: December 19, 2017.

FOR FURTHER INFORMATION CONTACT: Senior Vice President and Chief Risk Officer, Office of Enterprise Risk, Government National Mortgage Association, Department of Housing and Urban Development, Capital View, 425 3rd Street SW, Washington, DC 20024; telephone number (202) 475-4918. (This is not a toll-free number). Persons with hearing- or speech-impairments may access this number though TTY by calling the toll-free Federal Relay Service at 1-800-877-8339.

SUPPLEMENTARY INFORMATION: The Secretary of Housing and Urban Development hereby issues this Order of Succession pursuant to the Bylaws of Ginnie Mae which authorize the Secretary of Housing and Urban Development or the President of Ginnie Mae to designate the sequence in which other officers of Ginnie Mae shall act. The officers designated below shall perform the duties and exercise the power and authority of the President, when the President is absent or unable to act, or when there is a vacancy in the Office of the President of Ginnie Mae. This Order of Succession is subject to the provisions of the Federal Vacancies Reform Act of 1998 (5 U.S.C. 3345- 3349d) and the Bylaws of the Government National Mortgage Association, as published at www.ginniemae.gov. Accordingly, the Secretary of Housing and Urban Development designates the following Order of Succession:

Section A. Order of Succession

Subject to the provisions of the Federal Vacancies Reform Act of 1998 and the Bylaws of Ginnie Mae, during any period when, by reason of absence, disability, or vacancy in office, the President of Ginnie Mae is not available to exercise the powers or perform the duties of the President, the following officials within Ginnie Mae are hereby designated to exercise the powers and perform the duties of the Office:

(1) Executive Vice President—Chief Operations Officer;

(2) Executive Vice President;

(3) Senior Vice President, Office of Enterprise Risk;

(4) Senior Vice President, Office of Issuer and Portfolio Management;

(5) Senior Vice President, Office of Capital Markets;

(6) Senior Vice President, Office of Securities Operations;

(7) Senior Vice President, Office of Chief Financial Officer;

(8) Senior Vice President, Office of Enterprise Data and Technology Solutions;

(9) Senior Vice President, Office of Management Operations.

These officials shall perform the functions and duties of the Office in the order specified herein, and no official shall serve unless all the other officials, whose position titles precede his/hers in this order, are unable to act by reason of absence, disability, or vacancy in office.

Section B. Authority Superseded

This Order of Succession supersedes the prior Orders of Succession for the President of Ginnie Mae.

Authority: Section 7(d), Department of Housing and Urban Development Act (42 U.S.C. 3535(d)). Section 3.05, Bylaws of the Government National Mortgage Association, as published in the Bylaws published at www.ginniemae.gov.

Dated: December 19, 2017.
Benjamin S. Carson, Sr.,
Secretary.

[FR Doc. 2018-00796 Filed 1-17-18; 8:45 am]

BILLING CODE 4210-67-P